DEPARTMENT OF DEFENSE

Office of the Secretary

Strategic Environmental Research and Development Program, Scientific Advisory Board

AGENCY: Department of Defense (DOD).

ACTION: Notice.

SUMMARY: This notice is published in accordance with section 10(a)(2) of the Federal Advisory Committee Act (Pub. L. 92-463). The Scientific Advisory Board will meet on March 2-4, 2010, to review new start research requesting Strategic Environmental Research and Development Program funds in excess of $1M. This meeting is open to the public. Any interested person may attend, appear before, or file statements with the Scientific Advisory Board at the time and in the manner permitted by the Board.

DATES: The meeting will be held:

Tuesday, March 2, 2010 from 8:30 a.m. to 5 p.m.

Wednesday, March 3, 2010 from 9 a.m. to 5 p.m.

Thursday, March 4, 2010 from 8 a.m. to 10 a.m.

ADDRESSES: The meeting will be held at the Estancia La Jolla Hotel, 9700 N. Torrey Pines Road, La Jolla, CA 92037.

FOR FURTHER INFORMATION CONTACT: Mr. Jonathan Bunger, SERDP Office, 901 North Stuart Street, Suite 303, Arlington, VA or by telephone at (703) 696-2126.

Dated: January 27, 2010.
Mitchell S. Bryman,
Alternate OSD Federal Register Liaison Officer, Department of Defense.

[FR Doc. 2010-2049 Filed 2-1-10; 8:45 am]

BILLING CODE 5001-06-P